DEPARTMENT OF TRANSPORTATION

Federal Aviation Administration

14 CFR Part 71

[Docket No. FAA-2018-0817; Airspace Docket No. 18-ASW-1]

RIN 2120-AA66

Proposed Amendment and Establishment of Multiple Air Traffic Service (ATS) Routes in the Vicinity of Houston, TX

AGENCY: Federal Aviation Administration (FAA), DOT.

ACTION: Notice of proposed rulemaking (NPRM).

SUMMARY: This action proposes to modify 3 jet routes, 2 high altitude area navigation (RNAV) Q-routes, and 8 VHF Omnidirectional Range (VOR) Federal airways, and establish 4 low altitude RNAV T-routes in the vicinity of Houston, TX, due to the planned decommissioning of the Hobby, TX, VOR/Distance Measuring Equipment (VOR/DME) navigation aid (NAVAID), which provides navigation guidance for portions of the affected ATS routes

DATES: Comments must be received on or before November 13, 2018.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2018-0817; Airspace Docket No. 18-ASW-1 at the beginning of your comments. You may also submit comments through the internet at http://www.regulations.gov.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2018-0817; Airspace Docket No. 18-ASW-1) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0817; Airspace Docket No. 18-ASW-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Background

The FAA is planning to decommission the Hobby VOR/DME in April 2019 in support of construction activities for a new international terminal and associated parking garage at the William P. Hobby Airport, Houston, TX. The ATS routes effected by the Hobby VOR/DME decommissioning are jet routes J-37, J-138, and J-177, and VOR Federal airways V-15, V-20, V-68, V-76, V-194, V-198, V-548, and V-558.

With the planned decommissioning of the Hobby VOR/DME, the remaining ground-based NAVAID coverage in the area is insufficient to enable the continuity of the effected ATS routes. As such, proposed modifications to the effected jet routes and VOR Federal airways would result in gaps in those routes. To overcome the gaps, 2 high altitude RNAV Q-routes (Q-24 and Q-56) are proposed to be amended and 4 low altitude RNAV T-routes (T-200, T-220, T-224, and T-256) are proposed to be established to replace the jet route and VOR Federal airway segments proposed to be removed over the Hobby VOR/DME. The proposed amended Q-routes would provide the route structure necessary for departures from the Austin, Houston, and San Antonio terminal areas to transition to the en route environment. The proposed new T-routes would provide the Tower En Route structure through the airspace delegated to the Houston Terminal Radar Approach Control facility necessary to allow flights to continue along the en route structure that extends from San Antonio along the Gulf Coast into Florida.

Instrument flight rules (IFR) traffic that cannot fly Q-routes could use adjacent jet routes J-29 between the Palacios, TX, VORTAC and Humble, TX, VORTAC; J-22 between the Palacios, TX, VORTAC and Lake Charles, LA, VORTAC; and J-2, J-86 and J-31 between the San Antonio, TX, VORTAC and Harvey, LA, VORTAC to circumnavigate the affected area. Similarly, IFR traffic that cannot fly T-routes could use adjacent VOR Federal Airways V-70 between the Palacios, TX, VORTAC and Sabine Pass, LA, VOR/DME; V-556 between the Eagle Lake, TX, VOR/DME and Sabine Pass, LA, VOR/DME; and V-212, V-571, and V-222 between the Industry, TX, VORTAC and Beaumont, LA, VOR/DME to circumnavigate the affected area. Additionally, IFR traffic could file point to point through the affected area using fixes that will remain in place, or receive air traffic control (ATC) radar vectors through the area. Visual flight rules pilots who elect to navigate via the airways through the affected area could also take advantage of the adjacent jet routes, VOR Federal airways or ATC services listed previously.

The Proposal

The FAA is proposing an amendment to Title 14 Code of Federal Regulations (14 CFR) part 71 to modify 3 jet routes, 2 Q-routes, and 8 VOR Federal airways, and establish 4 T-routes due to the planned decommissioning of the Hobby, TX, VOR/DME. The proposed ATS route amendments are to the descriptions of J-37, J-138, J-177, Q-24, Q-56, V-15, V-20, V-68, V-76, V-194, V-198, V-548, and V-558, and the proposed new T-routes would be designated T-200, T-220, T-224, and T-256. The proposed amended and new ATS route end points are listed below. Full route descriptions are in “The Proposed Amendment” section of this document.

The proposed jet route amendments are as follows:

J-37: J-37 currently extends between the Hobby, TX, VOR/DME and the Coyle, NJ, VORTAC; and between the Kennedy, NY, VOR/DME and the Massena, NY, VORTAC. The FAA proposes to remove the airway segment between the Hobby, TX, VOR/DME and the Harvey, LA, VORTAC. The unaffected portions of the existing airway would remain as charted.

J-138: J-138 currently extends between the Fort Stockton, TX, VORTAC and the Semmes, AL, VORTAC. The FAA proposes to remove the airway segment between the San Antonio, TX, VORTAC and the Lake Charles, LA, VORTAC. The unaffected portions of the existing airway would remain as charted.

J-177: J-177 currently extends between the Humble, TX, VORTAC and the Tampico, Mexico, VOR/DME, excluding the portion south of lat. 26°00′00″ N. The FAA proposes to remove the airway segment between the Humble, TX, VORTAC and the Palacios, TX, VORTAC. The unaffected portions of the existing airway would remain as charted.

The proposed Q-route amendments are as follows:

Q-24: Q-24 currently extends between the Lake Charles, LA, VORTAC and the PAYTN, AL, fix. The FAA proposes to extend the route west of the Lake Charles, LA, VORTAC to the San Antonio, TX, VORTAC. The San Antonio, TX, VORTAC and MOLLR, TX, WP would be added prior to the Lake Charles, LA VORTAC. The unaffected portions of the existing airway would remain as charted.

Q-56: Q-56 currently extends between the CATLN, AL, fix and the KIWII, VA, WP. The FAA proposes to extend the route south of the CATLN, AL, fix to the San Antonio, TX, VORTAC. The San Antonio, TX, VORTAC; MOLLR, TX, WP; PEKON, LA, fix; Harvey, LA, VORTAC; and Semmes, AL, VORTAC would be added prior to the CATLN, AL, fix. Additionally, the KBLER, GA, WP would be removed between the CATLN, AL, fix and the KELLN, SC, WP. The unaffected portions of the existing airway would remain as charted.

The proposed VOR Federal airway amendments are as follows:

V-15: V-15 currently extends between the Hobby, TX, VOR/DME and the Neosho, MO, VOR/DME; and between the Sioux City, IA, VORTAC and the Minot, ND, VORTAC. The FAA proposes to remove the airway segment between the Hobby, TX, VOR/DME and the Navasota, TX, VOR/DME. The unaffected portions of the existing airway would remain as charted.

V-20: V-20 currently extends between the McAllen, TX, VOR/DME and the Nottingham, MD, VORTAC. The FAA proposes to remove the airway segment between the Palacios, TX, VORTAC and the Beaumont, TX, VOR/DME. The unaffected portions of the existing airway would remain as charted.

V-68: V-68 currently extends between the Montrose, CO, VOR/DME and the Hobby, TX, VOR/DME. The FAA proposes to remove the airway segment between the Industry, TX, VORTAC and the Hobby, TX, VOR/DME. The unaffected portions of the existing airway would remain as charted.

V-76: V-76 currently extends between the Lubbock, TX, VORTAC and the Hobby, TX, VOR/DME. The FAA proposes to remove the airway segment between the Industry, TX, VORTAC and the Hobby, TX, VOR/DME. The unaffected portions of the existing airway would remain as charted.

V-194: V-194 currently extends between the Cedar Creek, TX, VORTAC and the Meridian, MS, VORTAC; and between the Liberty, NC, VORTAC and the intersection of the Cofield, NC, VORTAC 077° and Norfolk, VA, VORTAC 209° radials (SUNNS fix). The FAA proposes to remove the airway segment between the College Station, TX, VORTAC and the Sabine Pass, TX, VOR/DME. The unaffected portions of the existing airway would remain as charted.

V-198: V-198 currently extends between the San Simon, AZ, VORTAC and the Craig, FL, VORTAC. The FAA proposes to remove the airway segment between the Eagle Lake, TX, VOR/DME and the Sabine Pass, TX, VOR/DME. The unaffected portions of the existing airway would remain as charted.

V-548: V-548 currently extends between the Hobby, TX, VOR/DME and the Waco, TX, VORTAC. The FAA proposes to remove the airway segment between the Hobby, TX, VOR/DME and the College Station, TX, VORTAC. The unaffected portions of the existing airway would remain as charted.

V-558: V-558 currently extends between the Llano, TX, VORTAC and the Hobby, TX, VOR/DME. The FAA proposes to remove the airway segment between the Eagle Lake, TX, VOR/DME and the Hobby, TX, VOR/DME. The unaffected portions of the existing airway would remain as charted.

The proposed new T-routes are as follows:

T-200: T-200 would extend between the College Station, TX, VORTAC and the Sabine Pass, TX, VOR/DME.

T-220: T-220 would extend between the Industry, TX, VORTAC and the Sabine Pass, TX, VOR/DME.

T-224: T-224 would extend between the Palacios, TX, VORTAC and the Lake Charles, LA, VORTAC.

T-256: T-256 would extend between the San Antonio, TX, VORTAC and the Sabine Pass, TX, VOR/DME.

All radials in the route descriptions below are unchanged and stated in True degrees.

Jet routes are published in paragraph 2004, high altitude RNAV Q-routes are published in paragraph 2006, Domestic VOR Federal airways are published in paragraph 6010(a), and low altitude RNAV T-routes are published in paragraph 6011 of FAA Order 7400.11C dated August 13, 2018, and effective September 15, 2018, which is incorporated by reference in 14 CFR 71.1. The jet routes, Q-routes, VOR Federal airways, and T-routes listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018 and effective September 15, 2018, is amended as follows:

Paragraph 2004 Jet Routes.

* * * * *

J-37 [Amended]

From Harvey, LA; Semmes, AL; Montgomery, AL; Spartanburg, SC; Lynchburg, VA; Gordonsville, VA; Brooke, VA; INT Brooke 067° and Coyle, NJ, 226° radials; to Coyle. From Kennedy, NY; Kingston, NY; Albany, NY; to Massena, NY.

* * * * *

J-138 [Amended]

From Fort Stockton, TX; Center Point, TX; to San Antonio, TX. From Lake Charles, LA; Fighting Tiger, LA; to Semmes, AL.

* * * * *

J177 [Amended]

From Palacios, TX; to Tampico, Mexico, excluding the portion south of lat. 26°00′00″ N

Paragraph 2006 United States Area Navigation Routes.

* * * * *

Q-24 San Antonio, TX (SAT) to PAYTN, AL [Amended]

San Antonio, TX (SAT) VORTAC (lat. 29°38′38.51″ N, long. 98°27′40.73″ W)

MOLLR, TX WP (lat. 29°39′20.23″ N, long. 95°16′35.83″ W)

Lake Charles, LA (LCH) VORTAC (lat. 30°08′29.45″ N, long. 93°06′20.05″ W)

Fighting Tiger, LA (LSU) VORTAC (lat. 30°29′06.48″ N, long. 91°17′38.64″ W)

IRUBE, MS WP (lat. 31°00′15.95″ N, long. 88°56′18.62″ W)

PAYTN, AL FIX (lat. 31°28′04.35″ N, long. 87°53′07.91″ W)

* * * * *

Q-56 San Antonio, TX (SAT) to KIWII, VA [Amended]

San Antonio, TX (SAT) VORTAC (lat. 29°38′38.51″ N, long. 98°27′40.73″ W)

MOLLR, TX WP (lat. 29°39′20.23″ N, long. 95°16′35.83″ W)

PEKON, LA FIX (lat. 29°37′22.88″ N, long. 92°55′26.37″ W)

Harvey, LA (HRV) VORTAC (lat. 29°51′00.70″ N, long. 90°00′10.74″ W)

Semmes, AL (SJI) VORTAC (lat. 30°43′33.53″ N, long. 88°21′33.46″ W)

CATLN, AL FIX (lat. 31°18′26.03″ N, long. 87°34′47.75″ W)

KELLN, SC WP (lat. 34°31′33.22″ N, long. 82°10′16.92″ W)

KTOWN, NC WP (lat. 35°11′49.14″ N, long. 81°03′18.27″ W)

BYSCO, NC WP (lat. 35°46′09.25″ N, long. 80°04′33.85″ W)

JOOLI, NC WP (lat. 35°54′55.21″ N, long. 79°49′16.24″ W)

NUUMN, NC WP (lat. 36°09′53.78″ N, long. 79°23′38.70″ W)

ORACL, NC WP (lat. 36°28′01.58″ N, long. 78°52′14.80″ W)

KIWII, VA WP (lat. 36°34′56.91″ N, long. 78°40′03.92″ W)

Paragraph 6010(a) Domestic VOR Federal Airways.

* * * * *

V-15 [Amended]

From Navasota, TX; College Station, TX; Waco, TX; Cedar Creek, TX; Bonham, TX; McAlester, OK; Okmulgee, OK; to Neosho, MO. From Sioux City, IA; INT Sioux City 340° and Sioux Falls, SD, 169° radials; Sioux Falls; Huron, SD; Aberdeen, SD; Bismarck, ND; to Minot, ND.

* * * * *

V-20 [Amended]

From McAllen, TX, INT McAllen 038° and Corpus Christi, TX, 178° radials; 10 miles 8 miles wide, 37 miles 7 miles wide (3 miles E and 4 miles W of centerline), Corpus Christi; INT Corpus Christi 054° and Palacios, TX, 226° radials; to Palacios. From Beaumont, TX; Lake Charles, LA; Lafayette, LA; Reserve, LA; INT Reserve 084° and Gulfport, MS, 247° radials; Gulfport; Semmes, AL; INT Semmes 048° and Monroeville, AL, 231° radials; Monroeville; Montgomery, AL; Tuskegee, AL; Columbus, GA; INT Columbus 068° and Athens, GA, 195° radials; Athens; Electric City, SC; Sugarloaf Mountain, NC; Barretts Mountain, NC; South Boston, VA; Richmond, VA; INT Richmond 039° and Brooke, VA, 132° radials; INT Patuxent, MD, 228° and Nottingham, MD, 174° radials; to Nottingham. The airspace on the main airway above 14,000 feet MSL from McAllen to 49 miles northeast and the airspace within Mexico is excluded. The airspace within R-4007A and R-4007B is excluded.

* * * * *

V-68 [Amended]

From Montrose, CO; Cones, CO; Dove Creek, CO; Cortez, CO; Rattlesnake, NM; INT Rattlesnake 128° and Albuquerque, NM, 345° radials; Albuquerque; INT Albuquerque 120° and Corona, NM, 311° radials; Corona; 41 miles 85 MSL, Chisum, NM; Hobbs, NM; Midland, TX; San Angelo, TX; Junction, TX; Center Point, TX; San Antonio, TX; INT San Antonio 064° and Industry, TX, 267° radials; to Industry.

* * * * *

V-76 [Amended]

From Lubbock, TX; INT Lubbock 188° and Big Spring, TX, 286° radials; Big Spring; San Angelo, TX; Llano, TX; Centex, TX; to Industry, TX.

* * * * *

V-194 [Amended]

From Cedar Creek, TX; to College Station, TX. From Sabine Pass, TX; Lafayette, LA; Fighting Tiger, LA; McComb, MS; INT McComb 055° and Meridian, MS, 221° radials; to Meridian. From Liberty, NC; Raleigh-Durham, NC; Tar River, NC; Cofield, NC; to INT Cofield 077° and Norfolk, VA, 209° radials.

* * * * *

V-198 [Amended]

From San Simon, AZ, via Columbus, NM; El Paso, TX; 6 miles wide; INT El Paso 109° and Hudspeth, TX, 287° radials; 6 miles wide; Hudspeth; 29 miles, 38 miles, 82 MSL, INT Hudspeth 109° and Fort Stockton, TX, 284° radials; 18 miles, 82 MSL; Fort Stockton; 20 miles, 116 miles, 55 MSL; Junction, TX; San Antonio, TX; Eagle Lake, TX; Hobby, TX; Sabine Pass, TX; White Lake, LA; Tibby, LA; Harvey, LA; 69 miles, 33 miles, 25 MSL; Brookley, AL; INT Brookley 056° and Crestview, FL, 266° radials; Crestview; Marianna, FL; Seminole, FL; Greenville, FL; Taylor, FL; INT Taylor 093° and Craig, FL, 287° radials; to Craig.

* * * * *

V-548 [Amended]

From College Station, TX; INT College Station 307° and Waco, TX, 173° radials; to Waco.

* * * * *

V-558 [Amended]

From Llano, TX; INT Llano 088° and Centex, TX, 306° radials; Centex; Industry, TX; to Eagle Lake, TX.

Paragraph 6011 United States Area Navigation Routes.

* * * * *

T-200 College Station, TX (CLL) to Sabine Pass, TX (SBI) [New]

College Station, TX (CLL) VORTAC (lat. 30°36′18.00″ N, long. 96°25′14.45″ W)

SEALY, TX FIX (lat. 29°51′15.54″ N, long. 95°56′36.33″ W)

MOLLR, TX WP (lat. 29°39′20.23″ N, long. 95°16′35.83″ W)

Sabine Pass, TX (SBI) VOR/DME (lat. 29°41′12.19″ N, long. 94°02′16.72″ W)

* * * * *

T-220 Industry, TX (IDU) to Sabine Pass, TX (SBI) [New]

Industry, TX (IDU) VORTAC (lat. 29°57′21.81″ N, long. 96°33′43.90″ W)

SEALY, TX FIX (lat. 29°51′15.54″ N, long. 95°56′36.33″ W)

MOLLR, TX WP (lat. 29°39′20.23″ N, long. 95°16′35.83″ W)

Sabine Pass, TX (SBI) VOR/DME (lat. 29°41′12.19″ N, long. 94°02′16.72″ W)

* * * * *

T-224 Palacios, TX (PSX) to Lake Charles, LA (LCH) [New]

Palacios, TX (PSX) VORTAC (lat. 28°45′51.93″ N, long. 96°18′22.25″ W)

MOLLR, TX WP (lat. 29°39′20.23″ N, long. 95°16′35.83″ W)

Beaumont, TX (BPT) VOR/DME (lat. 29°56′45.80″ N, long. 94°00′58.36″ W)

Lake Charles, LA (LCH) VORTAC (lat. 30°08′29.45″ N, long. 93°06′20.05″ W)

* * * * *

T-256 San Antonio, TX (SAT) to Sabine Pass, TX (SBI) [New]

San Antonio, TX (SAT) VORTAC (lat. 29°38′38.51″ N, long. 98°27′40.73″ W)

Eagle Lake, TX (ELA) VOR/DME (lat. 29°39′44.93″ N, long. 96°19′01.65″ W)

MOLLR, TX WP (lat. 29°39′20.23″ N, long. 95°16′35.83″ W)

Sabine Pass, TX (SBI) VOR/DME (lat. 29°41′12.19″ N, long. 94°02′16.72″ W)

Issued in Washington, DC, on September 19, 2018.
Scott M. Rosenbloom,
Acting Manager, Airspace Policy Group.

[FR Doc. 2018-20988 Filed 9-26-18; 8:45 am]

BILLING CODE 4910-13-P